DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 26, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on November 2, 2021.
Donald P. Burger,
Chief, General Approvals and Permits Branch.

Special Permits Data
Application No. | Applicant | Regulation(s) affected | Nature of the special permits thereof
11993-M | Key Safety Systems, Inc | 173.301(a)(1), 173.302(a)(1) | To modify the special permit to authorize a different pressure test and alternative safety control measures. (modes 1, 2, 3, 4, 5)
12135-M | Daicel Safety Systems Inc | 173.301(a)(1), 173.302a(a), 178.65(c)(3) | To modify the special permit to remove the flattening test requirement and authorize alternative markings. (modes 1, 2, 3, 4)
14546-M | Linde Gas & Equipment Inc | 180.209(a), 180.209(b), 180.209(b)(1)(iv) | To modify the special permit to authorize a 15-year periodic requalification interval for certain cylinders. (modes 1, 2, 3, 4)
14799-M | Joyson Safety Systems Sachsen GmbH | 173.301(a), 173.302(a)(1) | To modify the special permit to authorize a different pressure test and alternative safety control measures. (modes 1, 2, 3, 4, 5)
14833-M | Joyson Safety Systems Aschaffenburg GmbH | 178.65(f)(2), 173.301(a), 173.302(a)(2) | To modify the special permit to authorize a different pressure test and alternative safety control measures. (modes 1, 2, 3, 4, 5)
14919-M | Joyson Safety Systems Acquisition LLC | 173.301(a)(1), 173.302a, 178.65(f)(2) | To modify the special permit to authorize a different pressure test and alternative safety control measures. (modes, 1, 2, 3, 4, 5)
15372-M | Equipo Automotriz Americana, S.A. de C.V | 173.301(a)(1), 173.302(a) | To modify the special permit to authorize a different pressure test and alternative safety control measures. (modes 1, 2, 3, 4, 5)
15713-M | Bulk Tank International, S. DE R.L. DE C.V | 178.345-2, 178.346-2, 178.347-2, 178.348-2 | To modify the special permit to authorize the use of the 2017 Edition of the ASME Code. (mode 1)
16318-M | Technical Chemical Company | 173.304(d), 173.167(a) | To modify the special permit to authorize an additional hazardous material. (modes 1, 2, 3, 4, 5)
20907-M | Versum Materials US, LLC | 171.23(a)(1), 171.23(a)(3) | To modify the special permit to replace paragraph 7.b.(6) with a 5-year service life restriction. (modes 1, 3)
21018-M | Packaging and Crating Technologies, LLC | 172.200, 172.300, 172.400, 172.600, 172.700(a), 173.185(b), 173.185(c), 173.185(f) | To modify the special permit to clarify certain requirements, to remove certain packaging specifications, and to remove certain paperwork requirements. (modes 1, 2, 3)
21216-M | Bren-Tronics, Inc | 172.101(j) | To modify the special permit to authorize alternative dunnage material. (mode 4)
21279-M | Davey Bickford USA, Inc | 173.56(b) | To modify the special permit to authorize passenger-carrying aircraft as a mode. (mode 5)

[FR Doc. 2021-24562 Filed 11-9-21; 8:45 am]

BILLING CODE P